FEDERAL DEPOSIT INSURANCE CORPORATION

Agency Information Collection Activities: Submission for OMB Review; Comment Request

AGENCY: Federal Deposit Insurance Corporation (FDIC).

ACTION: Notice of information collections to be submitted to OMB for review and approval; comment request.

SUMMARY: In accordance with requirements of the Paperwork Reduction Act of 1995 (44 U.S.C. 3501 et seq.), the FDIC hereby gives notice that it plans to submit to the Office of Management and Budget (OMB) a request for OMB review and approval of the information collection system described below. The collection would provide information on the features and effects of overdraft protection programs in State nonmember financial institutions.

DATES: Comments must be submitted on or before March 9, 2007.

ADDRESSES: Interested parties are invited to submit written comments by mail to Steve Hanft, Legal Division, Federal Deposit Insurance Corporation, 550 17th Street, NW., Washington, DC 20429; by fax to Mr. Hanft at (202) 898-8788; or by e-mail to comments@fdic.gov. All comments should refer to “Study of Overdraft Protection Programs.” Copies of comments may also be submitted to the OMB desk officer for the FDIC, Office of Information and Regulatory Affairs, Office of Management and Budget, New Executive Office Building, Washington, DC 20503.

FOR FURTHER INFORMATION CONTACT: Interested members of the public may obtain additional information about the collection, including a copy of the proposed collection and related instructions without charge, by contacting Steve Hanft at the address identified above.

SUPPLEMENTARY INFORMATION: Proposal to seek OMB approval for the following new collection of information:

Title: Study of Overdraft Protection Programs.

OMB Number: New collection (3064-xxxx).

Frequency of Response: One-time.

Affected Public: State nonmember financial institutions and data service providers.

Estimated Number of Respondents: 500.

Estimated time per response: Survey questions: approximate average of 3 hours per respondent. Micro-data collection: approximate range of 40 to 100 hours per respondent, with an estimated average of 80 hours.

Estimated Total Annual Burden:

Survey questions: 500 respondents times 3 hours per = 1,500 hours.

Micro-data collection: 100 respondents (financial institutions and/or service providers) times the estimated average of 80 hours = 8,000 hours.

Total burden = 1,500 + 8,000 = 9,500 hours.

General Description of Collection: The FDIC is planning a study of the overdraft protection products offered by financial institutions and the usage patterns among depositors in those institutions. The study requires collection of data from financial institutions that are not currently included in the Call Reports or other standard periodic regulatory reports. These data will be collected in two parts: a survey in which a sample of 500 state-chartered nonmember financial institutions will be asked up to 88 questions about each type of overdraft policy that they implement, and an additional micro-data collection in which more detailed information will be collected from up to 100 of these institutions. To minimize burden on respondents, the FDIC will use automated data collection techniques wherever possible. The data collection conforms to privacy rules and will not request any information that could be used to identify individual bank customers, such as name, address, or account number. All data from, and identities of, the financial institutions will remain confidential. It is the intent of the FDIC to publish only general findings from the data collection.

Request for Comment

Comments are invited on: (a) Whether the collection of information is necessary for the proper performance of the FDIC's functions, including whether the information has practical utility; (b) the accuracy of the estimates of the burden of the information collection; (c) ways to enhance the quality, utility, and clarity of the information to be collected; (d) ways to minimize the burden of the information collection on respondents, including through the use of automated collection techniques or other forms of information technology; and (e) estimates of capital or start up costs, and costs of operation, maintenance and purchase of services to provide the information.

Dated at Washington, DC, this 1st day of February, 2007.
Federal Deposit Insurance Corporation.
Valerie J. Best,
Assistant Executive Secretary.

[FR Doc. E7-1925 Filed 2-6-07; 8:45 am]

BILLING CODE 6714-01-P